DEPARTMENT OF JUSTICE

Antitrust Division

Notice Pursuant to the National Cooperative Research and Production Act of 1993—National Roofing Contractors Association

Notice is hereby given that, on September 10, 2004, pursuant to section 6(a) of the National Cooperative Research and Production Act of 1993, 15 U.S.C. 4301 et seq. (“the Act”), the National Roofing Contractors Association (“NRCA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: National Roofing Contractors Association, Rosemont, IL. The nature and scope of NRCA's standards development activities are: To develop, plan, establish, and coordinate voluntary consensus standards applicable to a variety of constructed roof systems. In particular, NRCA is in the process of facilitating a long-term roofing industry initiative to develop and maintain suitable performance criteria for constructed roof systems. In order to achieve this initiative, NRCA has established a committee (referred to as PCCRS) made up of representatives from the roofing industry that will be responsible for developing voluntary consensus standards applicable to constructed roof systems. Through its standards development activities, NRCA seeks to enhance and build upon existing roofing-related standards by developing and maintaining suitable performance criteria applicable to a wide range of complete roof systems. Such performance criteria are intended to provide roofing industry professionals and building owners with a consensus opinion defining the attributes of a wide variety of successful, long-term roof systems.

Additional information concerning NRCA's standards development activities may be obtained from Mark Graham, Associate Executive Director for Technical Services, National Roofing Contractors Association, at (847) 299-9070.

Dorothy B. Fountain,
Deputy Director of Operations, Antitrust Division.

[FR Doc. 04-23505 Filed 10-20-04; 8:45 am]

BILLING CODE 4410-11-M